POSTAL SERVICE

39 CFR Part 20

International Competitive Services Price Changes

AGENCY: Postal Service™.

ACTION: Final action.

SUMMARY: The Postal Service is revising Notice 123, Price List, to reflect the price changes to Competitive Services as established by the Governors of the United States Postal Service.

DATES: The revisions to Notice 123 are effective January 21, 2024.

FOR FURTHER INFORMATION CONTACT: Dale Kennedy at 202-268-6592 or Kathy Frigo at 202-268-4178.

SUPPLEMENTARY INFORMATION: This final action describes new prices established by the Governors of the United States Postal Service and submitted for review by the Postal Regulatory Commission in Docket Number CP2024-52 (see https://prc.gov).

This final action describes the international price changes for the following international competitive services:

• Global Express Guaranteed®.

• Priority Mail Express International®.

• Priority Mail International® (PMI).

• First-Class Package International Service.

• International Priority Airmail®.

• International Surface Air Lift®.

• Direct Sacks of Printed Matter to One Addressee (Airmail M-Bag®).

• The following competitive international extra services and fees:

• International Insurance.

• Certificate of Mailing.

• International Registered Mail.

• International Return Receipt.

• Customs Clearance and Delivery Fee.

For pricing, see the Postal Explorer website at https://pe.usps.com.

Global Express Guaranteed

Global Express Guaranteed (GXG) service provides fast international shipping, with international transportation and delivery provided through an alliance with FedEx Express®. The price increase for GXG service averages 5.4 percent.

The Postal Service provides Commercial Base® pricing to online customers who prepare and pay for GXG shipments via USPS-approved payment methods (other than Click-N-Ship® service), with a discount below the published retail prices for GXG service. Customers who prepare GXG shipments via Click-N-Ship service will continue to pay retail prices. Commercial Plus® prices are set to match the Commercial Base prices.

Priority Mail Express International

Priority Mail Express International (PMEI) service provides fast service to approximately 180 countries in 3-5 business days for many major markets, although the actual number of days may vary based upon origin, destination, and customs delays. PMEI with Money-Back Guarantee service is available for certain destinations. (Due to COVID-19 service impacts, PMEI with Money-Back Guarantee service has been suspended for several destinations until further notice. For more information, see the USPS Service Updates page on www.usps.com.) The price increase for PMEI service averages 5.4 percent. The Commercial Base price provides a discount below the published retail prices for customers who prepare and pay for PMEI shipments via permit imprint, online at USPS.com®, or as registered end-users using an authorized PC Postage vendor (with the exception of Click-N-Ship service). Customers who prepare PMEI shipments via Click-N-Ship service pay retail prices. Commercial Plus will be equivalent to Commercial Base; however, deeper discounting may still be available to customers through negotiated service agreements.

The Postal Service will continue to include PMEI service in customized contracts offered to customers who meet certain revenue thresholds and are willing to commit a larger amount of revenue to the USPS® for PMEI service and PMI service.

PMEI flat rate pricing continues to be available for Flat Rate Envelopes.

Priority Mail International

Priority Mail International (PMI) is an economical way to send merchandise and documents to approximately 180 countries in 6-10 business days for many major markets, although the actual number of days may vary based upon origin, destination, and customs delays. The price increase for PMI service averages 5.4 percent. The Commercial Base price provides a discount below the published retail prices for customers who prepare and pay for PMI items via permit imprint, online at USPS.com, or as registered end-users using an authorized PC Postage vendor (with the exception of Click-N-Ship). Customers who prepare PMI shipments via Click-N-Ship pay retail prices. Commercial Plus prices will be equivalent to Commercial Base; however, deeper discounting may still be made available to customers through negotiated service agreements.

The Postal Service will continue to include PMI service in customized contracts offered to customers who meet certain revenue thresholds and are willing to commit to a larger amount of revenue to the USPS for PMEI and PMI.

PMI flat rate pricing continues to be available for Flat Rate Envelopes, Small Flat Rate Boxes, and Medium and Large Flat Rate Boxes.

First-Class Package International Service

First-Class Package International Service (FCPIS) is an economical international service for small packages not exceeding 4 pounds in weight and $400 in value. The price increase for FCPIS averages 6.4 percent. The Commercial Base price provides a discount below the published retail prices for customers who prepare and pay for FCPIS items via permit imprint or by USPS-approved online payment methods. Customers who prepare FCPIS shipments via Click-N-Ship service pay retail prices. Commercial Plus prices will be equivalent to Commercial Base; however, deeper discounting will be made available to customer through negotiated service agreements.

Electronic USPS Delivery Confirmation International service (E-USPS DELCON INTL®) is a tracking service available at no charge for FCPIS items to select destination countries.

International Priority Airmail and International Surface Air Lift

International Priority Airmail (IPA) service, including IPA M-bags, is a commercial service designed for volume mailings of all First-Class Mail International postcards, letters, and large envelopes (flats), and for volume mailings of FCPIS packages (small packets) weighing up to a maximum of 4.4 pounds. IPA shipments are typically flown to foreign destinations (exceptions apply to Canada) and are then entered into that country's air or surface priority mail system for delivery. The price increase for IPA is 5.5 percent. International Surface Airlift (ISAL) is like IPA except that once flown to the foreign destination, ISAL is entered into that country's air or surface nonpriority mail system for delivery. The price increase for ISAL is 3.5 percent.

Direct Sacks of Printed Matter to One Addressee (Airmail M-Bags)

An Airmail M-bag is a direct sack of printed matter sent to a single foreign addressee at a single address. Prices are based on the weight of the sack. The price increase for Airmail M-bag service averages 5.4 percent.

International Extra Services and Fees

Depending on country destination and mail type, customers may add a variety of extra services to their outbound shipments and pay a variety of fees. The Postal Service proposes to increase fees for certain competitive international extra services as follows:

• GXG insurance: There is no charge for GXG insurance for coverage up to $100. The fee for GXG insurance will increase by $2.50 for each additional $100 or fraction over $100, up to a maximum indemnity of $2,499 per shipment (the maximum indemnity varies by country).

GXG insurance | Fee
Up to $100 | $0.00
Each additional $100 or fraction over $100 | 2.50
Maximum insurance $2,499 (varies by country).

• PMEI and PMI merchandise insurance: There is no charge for PMEI and PMI merchandise insurance coverage up to $200. The fee for PMEI and PMI merchandise insurance will increase by $3.50 for each additional $100 or fraction over $300 as set forth in the table below, up to a maximum indemnity of $5,000 (the maximum indemnity varies by country).

Indemnity limit not over | Fee
Up to $200 | $0.00
$200.01-$300.00 | 13.15
$300.01-$400.00 | 16.65
$400.01-$500.00 | 20.15
$500.01-$600.00 | 23.65
$600.01-$700.00 | 27.15
$700.01-$800.00 | 30.65
$800.01-$900.00 | 34.15
$34.15 plus $3.50 per $100 or fraction thereof over $900 in declared value. Maximum insurance $5,000 (varies by country).

• Certificate of mailing service: Prices for competitive international certificate of mailing service will be as follows:

Certificate of Mailing
| Fee
Individual pieces
Individual article (PS Form 3817) | $2.00
Duplicate copy of PS Form 3817 or PS Form 3665 (per page) | 2.00
Firm mailing sheet (PS Form 3665), per piece (minimum 3), All other qualifying classes of mail | 0.58
Bulk quantities |
For first 1,000 pieces (or fraction thereof) | 11.10
Each additional 1,000 pieces (or fraction thereof) | 1.45
Duplicate copy of PS Form 3606 | 2.00

• International Registered Mail service: The fee for competitive international registered mail will increase to $20.75.

• International return receipt service: The fee for competitive international return receipt service will increase to $5.80.

• Customs clearance and delivery fee: The competitive customs clearance and delivery fee per dutiable item will increase to $8.55.

Sarah Sullivan,
Attorney, Ethics and Legal Compliance.

[FR Doc. 2023-25654 Filed 11-20-23; 8:45 am]

BILLING CODE 7710-12-P